DEPARTMENT OF ENERGY

Federal Energy Regulatory Commission

[Docket No. CP24-124-000]

Colorado Interstate Gas Company, LLC; Notice of Schedule for the Preparation of an Environmental Assessment for the Totem Enhanced Deliverability Project

On April 8, 2024, Colorado Interstate Gas Company, LLC (CIG) filed an application in Docket No. CP24-124-000 requesting a (Certificate of Public Convenience and Necessity pursuant to Section 7(c) and Authorization pursuant to Section 7(b) of the Natural Gas Act to modify and enhance the existing Totem natural gas storage field in Adams County, Colorado. The proposed project is known as the Totem Enhanced Deliverability Project (Project).

On April 22, 2024, the Federal Energy Regulatory Commission (Commission or FERC) issued its Notice of Application for the Project. Among other things, that notice alerted agencies issuing federal authorizations of the requirement to complete all necessary reviews and to reach a final decision on a request for a federal authorization within 90 days of the date of issuance of the Commission staff's environmental document for the Project.

This notice identifies Commission staff's intention to prepare an environmental assessment (EA) for the Project and the planned schedule for the completion of the environmental review.¹

¹ 40 CFR 1501.10 (2020)

Schedule for Environmental Review

Issuance of EA November 8, 2024

90-day Federal Authorization Decision Deadline ² February 6, 2025

² The Commission's deadline applies to the decisions of other federal agencies, and state agencies acting under federally delegated authority, that are responsible for federal authorizations, permits, and other approvals necessary for proposed projects under the Natural Gas Act. Per 18 CFR 157.22(a), the Commission's deadline for other agency's decisions applies unless a schedule is otherwise established by federal law.

If a schedule change becomes necessary, additional notice will be provided so that the relevant agencies are kept informed of the Project's progress.

Project Description

CIG proposes to modify and enhance the existing Totem natural gas storage field to increase the maximum withdrawal rate by about 50 million standard cubic feet of natural gas per day and increase both the maximum total inventory and base gas capacity of the field by one billion cubic feet.

The Project would consist of the following facilities and activities:

• Installation of six new injection/withdrawal (I/W) wells, each with a wellhead and meter yard and 0.42 mile of 6-inch-diameter lateral pipeline to connect the new wells to gathering lines;

• Conversion of one existing I/W well to an observation well;

• Along Line 254F-1:

○ Replacement of 0.62 mile of 8-inch-diameter gathering pipeline with approximately 0.72 miles of 12-inch-diameter gathering pipeline to connect the Totem Compressor Station to existing and new I/W wells;

○ Replacement of approximately 0.12 mile of existing 6-inch-diameter pipeline with approximately 0.08 mile of new 4-inch and 6-inch-diameter pipeline to interconnect with the new segment;

○ Installation of 7 new tap valves/lateral tie-ins;

○ Replacement of the launcher/receiver facilities;

• Along Line 254-2:

○ Replacement of approximately 0.28 mile of existing 6-inch and 10- inch-diameter pipeline with approximately 0.26 mile of new 3-inch, 4-inch and 6-inch-diameter pipeline to interconnect;

○ Installation of 7 new tap valves/lateral tie-ins;

• Abandonment in place of approximately 0.4 mile of 3-inch diameter on Line 254F-7;

• Installation of approximately 0.68 miles of new permanent access road that will encircle each of the new I/W wells;

• Piping modifications at the existing Totem Compressor Station; and

• Injection of approximately 1 billion cubic feet of additional base gas.

Background

On May 22, 2024, the Commission issued a Notice of Scoping Period Requesting Comments on Environmental Issues for the Proposed Totem Enhanced Deliverability Project (Notice of Scoping). The Notice of Scoping was sent to affected landowners; federal, state, and local government agencies; elected officials; environmental and public interest groups; Native American tribes; other interested parties; and local libraries and newspapers. Although there have not been any issues raised for the Project as of the issuance of this notice, all substantive comments received will be addressed in the EA.

Additional Information

In order to receive notification of the issuance of the EA and to keep track of formal issuances and submittals in specific dockets, the Commission offers a free service called eSubscription. This service provides automatic notification of filings made to subscribed dockets, document summaries, and direct links to the documents. Go to https://www.ferc.gov/ferc-online/overview to register for eSubscription.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Additional information about the Project is available from the Commission's Office of External Affairs at (866) 208-FERC or on the FERC website (www.ferc.gov). Using the “eLibrary” link, select “General Search” from the eLibrary menu, enter the selected date range and “Docket Number” excluding the last three digits (i.e., CP24-124), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: June 12, 2024.
Debbie-Anne A. Reese,
Acting Secretary.

[FR Doc. 2024-13401 Filed 6-17-24; 8:45 am]

BILLING CODE 6717-01-P